COMMISSION ON CIVIL RIGHTS

Notice of Public Meeting of the Delaware Advisory Committee; Cancellation

AGENCY: Commission on Civil Rights.

ACTION: Notice; cancellation of meeting date.

The Commission on Civil Rights published a notice in the Federal Register concerning a meeting of the Delaware Advisory Committee. The following meeting is cancelled: Wednesday, August 2, 2023, at 1:00 p.m. (ET). The notice is in the Federal Register of Monday, April 17, 2023, in FR Doc. 2023-08036, in the third column of page 23393, and the first and second columns of 23394.

FOR FURTHER INFORMATION CONTACT: Ivy Davis, 202-530-8468, idavis@usccr.gov.

Dated: July 7, 2023.
David Mussatt,
Supervisory Chief, Regional Programs Unit.

[FR Doc. 2023-14784 Filed 7-11-23; 8:45 am]

BILLING CODE P